DEPARTMENT OF THE INTERIOR

Fish and Wildlife Service

[FWS-R1-ES-2017-N006: FXES11130100000C4-178-FF01E00000]

Endangered and Threatened Wildlife and Plants; Initiation of 5-Year Status Reviews for 138 Species in Hawaii, Oregon, Washington, and California

AGENCY: Fish and Wildlife Service, Interior.

ACTION: Notice of initiation of reviews; request for information.

SUMMARY: We, the U.S. Fish and Wildlife Service (Service), are initiating 5-year status reviews for 138 species in Hawaii, Oregon, Washington, and California under the Endangered Species Act of 1973, as amended (Act). A 5-year status review is based on the best scientific and commercial data available at the time of the review; therefore, we are requesting submission of any new information on these species that has become available since the last review.

DATES: To ensure consideration in our reviews, we are requesting submission of new information no later than June 19, 2017. However, we will continue to accept new information about any listed species at any time.

ADDRESSES: Submit information on any of the 133 species in Hawaii (see table under What Species Are Under Review?) via U.S. mail to: Field Supervisor; Attention: 5-Year Review; U.S. Fish and Wildlife Service; Pacific Islands Fish and Wildlife Office; 300 Ala Moana Blvd., Room 3-122, Honolulu, HI 96850.

For the marbled murrelet, submit information via U.S. mail to: Field Supervisor; Attention: 5-Year Review; U.S. Fish and Wildlife Service; Washington Fish and Wildlife Office; 510 Desmond Dr. SE., Suite 102, Lacey, WA 98503, or by email to mamu5yrreview@fws.gov.

For the Oregon silverspot butterfly, Malheur wire-lettuce, large-flowered woolly meadowfoam, and Cook's lomatium, submit information via U.S. mail to: Field Supervisor; Attention: 5-Year Review; U.S. Fish and Wildlife Service; Oregon Fish and Wildlife Office; 2600 SE 98th Ave., Suite 100; Portland, OR 97266.

FOR FURTHER INFORMATION CONTACT: Gregory Koob, U.S. Fish and Wildlife Service, Pacific Islands Fish and Wildlife Office (see ADDRESSES), 808-792-9400 (for species in Hawaii); Deanna Lynch, U.S. Fish and Wildlife Service, Washington Fish and Wildlife Office, 360-753-9440 (for marbled murrelet); or Michele Zwartjes, U.S. Fish and Wildlife Service, Oregon Fish and Wildlife Office, 503-231-6179 (for Oregon silverspot butterfly, Malheur wire-lettuce, large-flowered woolly meadowfoam, and Cook's lomatium). Individuals who are hearing impaired or speech impaired may call the Federal Relay Service at 800-877-8339 for TTY assistance.

SUPPLEMENTARY INFORMATION:

Why do we conduct 5-year reviews?

Under the Act (16 U.S.C. 1531 et seq.), we maintain Lists of Endangered and Threatened Wildlife and Plants (which we collectively refer to as the List) in the Code of Federal Regulations (CFR) at 50 CFR 17.11 (for animals) and 17.12 (for plants). Section 4(c)(2) of the Act requires us to review each listed species' status at least once every 5 years. For additional information about 5-year reviews, go to http://www.fws.gov/endangered/what-we-do/recovery-overview.html, scroll down to “Learn More about 5-Year Reviews,” and click on the “5-Year Reviews” link.

What information do we consider in the review?

A 5-year review considers all new information available at the time of the review. In conducting these reviews, we consider the best scientific and commercial data that has become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for these species.

What species are under review?

This notice announces our active review of the 138 species listed in the table below.

Species for Which the U.S. Fish and Wildlife Service is Initiating 5-Year Status Reviews
Common name | Scientific name | Status | Where listed | Final listing rule (Federal Register citation and publication date)
ANIMALS
Marbled murrelet | Brachyramphus marmoratus | Threatened | U.S.A. (CA, OR, WA) | 57 FR 45337; 10/01/1992.
Oahu elepaio | Chasiempis ibidis | Endangered | U.S.A. (HI) | 65 FR 20769; 04/18/2000.
Oahu creeper | Paroreomyza maculata | Endangered | U.S.A. (HI) | 35 FR 16047; 10/13/1970.
Oahu tree snail | Achatinella abbreviata | Endangered | U.S.A. (HI) | 46 FR 3178; 01/13/1981.
Oahu tree snail | Achatinella apexfulva | Endangered | U.S.A. (HI) | 46 FR 3178; 01/13/1981.
Oahu tree snail | Achatinella bellula | Endangered | U.S.A. (HI) | 46 FR 3178; 01/13/1981.
Oahu tree snail | Achatinella buddii | Endangered | U.S.A. (HI) | 46 FR 3178; 01/13/1981.
Oahu tree snail | Achatinella bulimoides | Endangered | U.S.A. (HI) | 46 FR 3178; 01/13/1981.
Oahu tree snail | Achatinella byronii | Endangered | U.S.A. (HI) | 46 FR 3178; 01/13/1981.
Oahu tree snail | Achatinella caesia | Endangered | U.S.A. (HI) | 46 FR 3178; 01/13/1981.
Oahu tree snail | Achatinella casta | Endangered | U.S.A. (HI) | 46 FR 3178; 01/13/1981.
Oahu tree snail | Achatinella cestus | Endangered | U.S.A. (HI) | 46 FR 3178; 01/13/1981.
Oahu tree snail | Achatinella concavospira | Endangered | U.S.A. (HI) | 46 FR 3178; 01/13/1981.
Oahu tree snail | Achatinella curta | Endangered | U.S.A. (HI) | 46 FR 3178; 01/13/1981.
Oahu tree snail | Achatinella decipiens | Endangered | U.S.A. (HI) | 46 FR 3178; 01/13/1981.
Oahu tree snail | Achatinella decora | Endangered | U.S.A. (HI) | 46 FR 3178; 01/13/1981.
Oahu tree snail | Achatinella dimorpha | Endangered | U.S.A. (HI) | 46 FR 3178; 01/13/1981.
Oahu tree snail | Achatinella elegans | Endangered | U.S.A. (HI) | 46 FR 3178; 01/13/1981.
Oahu tree snail | Achatinella fulgens | Endangered | U.S.A. (HI) | 46 FR 3178; 01/13/1981.
Oahu tree snail | Achatinella fuscobasis | Endangered | U.S.A. (HI) | 46 FR 3178; 01/13/1981.
Oahu tree snail | Achatinella juddii | Endangered | U.S.A. (HI) | 46 FR 3178; 01/13/1981.
Oahu tree snail | Achatinella juncea | Endangered | U.S.A. (HI) | 46 FR 3178; 01/13/1981.
Oahu tree snail | Achatinella lehuiensis | Endangered | U.S.A. (HI) | 46 FR 3178; 01/13/1981.
Oahu tree snail | Achatinella leucorrhaphe | Endangered | U.S.A. (HI) | 46 FR 3178; 01/13/1981.
Oahu tree snail | Achatinella lila | Endangered | U.S.A. (HI) | 46 FR 3178; 01/13/1981.
Oahu tree snail | Achatinella livida | Endangered | U.S.A. (HI) | 46 FR 3178; 01/13/1981.
Oahu tree snail | Achatinella lorata | Endangered | U.S.A. (HI) | 46 FR 3178; 01/13/1981.
Oahu tree snail | Achatinella mustelina | Endangered | U.S.A. (HI) | 46 FR 3178; 01/13/1981.
Oahu tree snail | Achatinella papyracea | Endangered | U.S.A. (HI) | 46 FR 3178; 01/13/1981.
Oahu tree snail | Achatinella phaeozona | Endangered | U.S.A. (HI) | 46 FR 3178; 01/13/1981.
Oahu tree snail | Achatinella pulcherrima | Endangered | U.S.A. (HI) | 46 FR 3178; 01/13/1981.
Oahu tree snail | Achatinella pupukanioe | Endangered | U.S.A. (HI) | 46 FR 3178; 01/13/1981.
Oahu tree snail | Achatinella rosea | Endangered | U.S.A. (HI) | 46 FR 3178; 01/13/1981.
Oahu tree snail | Achatinella sowerbyana | Endangered | U.S.A. (HI) | 46 FR 3178; 01/13/1981.
Oahu tree snail | Achatinella spaldingi | Endangered | U.S.A. (HI) | 46 FR 3178; 01/13/1981.
Oahu tree snail | Achatinella stewartii | Endangered | U.S.A. (HI) | 46 FR 3178; 01/13/1981.
Oahu tree snail | Achatinella swiftii | Endangered | U.S.A. (HI) | 46 FR 3178; 01/13/1981.
Oahu tree snail | Achatinella taeniolata | Endangered | U.S.A. (HI) | 46 FR 3178; 01/13/1981.
Oahu tree snail | Achatinella thaanumi | Endangered | U.S.A. (HI) | 46 FR 3178; 01/13/1981.
Oahu tree snail | Achatinella turgida | Endangered | U.S.A. (HI) | 46 FR 3178; 01/13/1981.
Oahu tree snail | Achatinella valida | Endangered | U.S.A. (HI) | 46 FR 3178; 01/13/1981.
Oahu tree snail | Achatinella viridans | Endangered | U.S.A. (HI) | 46 FR 3178; 01/13/1981.
Oahu tree snail | Achatinella vittata | Endangered | U.S.A. (HI) | 46 FR 3178; 01/13/1981.
Oahu tree snail | Achatinella vulpina | Endangered | U.S.A. (HI) | 46 FR 3178; 01/13/1981.
Hawaiian picture-wing fly | Drosophila aglaia | Endangered | U.S.A. (HI) | 71 FR 26851; 05/09/2006.
Hawaiian picture-wing fly | Drosophila hemipeza | Endangered | U.S.A. (HI) | 71 FR 26851; 05/09/2006.
Hawaiian picture-wing fly | Drosophila montgomeryi | Endangered | U.S.A. (HI) | 71 FR 26851; 05/09/2006.
Hawaiian picture-wing fly | Drosophila obatai | Endangered | U.S.A. (HI) | 71 FR 26851; 05/09/2006.
Hawaiian picture-wing fly | Drosophila substenoptera | Endangered | U.S.A. (HI) | 71 FR 26851; 05/09/2006.
Hawaiian picture-wing fly | Drosophila tarphytrichia | Endangered | U.S.A. (HI) | 71 FR 26851; 05/09/2006.
Crimson Hawaiian damselfly | Megalagrion leptodemas | Endangered | U.S.A. (HI) | 77 FR 57647; 09/18/2012.
Blackline Hawaiian damselfly | Megalagrion nigrohamatum nigrolineatum | Endangered | U.S.A. (HI) | 77 FR 57647; 09/18/2012.
Oceanic Hawaiian damselfly | Megalagrion oceanicum | Endangered | U.S.A. (HI) | 77 FR 57647; 09/18/2012.
Oregon silverspot butterfly | Speyeria zerene hippolyta | Threatened | U.S.A. (CA, OR, WA) | 45 FR 44938; 07/02/1980.
PLANTS
No common name | Abutilon sandwicense | Endangered | U.S.A. (HI) | 56 FR 55785; 10/29/1991.
No common name | Asplenium dielfalcatum | Endangered | U.S.A. (HI) | 56 FR 55785; 10/29/1991.
No common name | Asplenium unisorum | Endangered | U.S.A. (HI) | 59 FR 32937; 06/27/1994.
Kookoolau | Bidens amplectens | Endangered | U.S.A. (HI) | 77 FR 57745; 09/18/2012.
Haha | Cyanea acuminata | Endangered | U.S.A. (HI) | 61 FR 53107; 10/10/1996.
Haha | Cyanea calycina | Endangered | U.S.A. (HI) | 77 FR 57745; 09/18/2012.
Haha | Cyanea crispa | Endangered | U.S.A. (HI) | 59 FR 14493; 03/28/1994.
Haha | Cyanea grimesiana ssp. obatae | Endangered | U.S.A. (HI) | 59 FR 32937; 06/27/1994.
Haha | Cyanea humboldtiana | Endangered | U.S.A. (HI) | 61 FR 53107; 10/10/1996.
Haha | Cyanea koolauensis | Endangered | U.S.A. (HI) | 61 FR 53107; 10/10/1996.
Haha | Cyanea lanceolata | Endangered | U.S.A. (HI) | 77 FR 57745; 09/18/2012.
Haha | Cyanea longiflora | Endangered | U.S.A. (HI) | 61 FR 53107; 10/10/1996.
Haha | Cyanea pinnatifida | Endangered | U.S.A. (HI) | 56 FR 55785; 10/29/1991.
Haha | Cyanea purpurellifolia | Endangered | U.S.A. (HI) | 77 FR 57745; 09/18/2012.
Haha | Cyanea st.-johnii | Endangered | U.S.A. (HI) | 61 FR 53107; 10/10/1996.
No common name | Cyanea superba | Endangered | U.S.A. (HI) | 56 FR 46239; 09/11/1991.
Haha | Cyanea truncata | Endangered | U.S.A. (HI) | 59 FR 14493; 03/28/1994.
Haiwale | Cyrtandra crenata | Endangered | U.S.A. (HI) | 59 FR 14493; 03/28/1994.
Haiwale | Cyrtandra dentata | Endangered | U.S.A. (HI) | 61 FR 53107; 10/10/1996.
Haiwale | Cyrtandra gracilis | Endangered | U.S.A. (HI) | 77 FR 57745; 09/18/2012.
Haiwale | Cyrtandra kaulantha | Endangered | U.S.A. (HI) | 77 FR 57745; 09/18/2012.
Haiwale | Cyrtandra polyantha | Endangered | U.S.A. (HI) | 59 FR 14493; 03/28/1994.
Haiwale | Cyrtandra sessilis | Endangered | U.S.A. (HI) | 77 FR 57745; 09/18/2012.
Haiwale | Cyrtandra subumbellata | Endangered | U.S.A. (HI) | 61 FR 53107; 10/10/1996.
Haiwale | Cyrtandra viridiflora | Endangered | U.S.A. (HI) | 61 FR 53107; 10/10/1996.
Haiwale | Cyrtandra waiolani | Endangered | U.S.A. (HI) | 77 FR 57745; 09/18/2012.
Oha | Delissea subcordata | Endangered | U.S.A. (HI) | 61 FR 53107; 10/10/1996.
No common name | Doryopteris takeuchii | Endangered | U.S.A. (HI) | 77 FR 57745; 09/18/2012.
Naenae | Dubautia herbstobatae | Endangered | U.S.A. (HI) | 56 FR 55785; 10/29/1991.
Fosberg's love grass | Eragrostis fosbergii | Endangered | U.S.A. (HI) | 61 FR 53107; 10/10/1996.
Nioi | Eugenia koolauensis | Endangered | U.S.A. (HI) | 59 FR 14493; 03/28/1994.
Akoko | Euphorbia celastroides var. kaenana | Endangered | U.S.A. (HI) | 56 FR 55785; 10/29/1991.
Akoko | Euphorbia deppeana | Endangered | U.S.A. (HI) | 59 FR 14493; 03/28/1994.
Akoko | Euphorbia herbstii | Endangered | U.S.A. (HI) | 61 FR 53107; 10/10/1996.
Akoko | Euphorbia kuwaleana | Endangered | U.S.A. (HI) | 56 FR 55785; 10/29/1991.
Akoko | Euphorbia rockii | Endangered | U.S.A. (HI) | 61 FR 53107; 10/10/1996.
Ewa Plains akoko | Euphorbia skottsbergii var. skottsbergii | Endangered | U.S.A. (HI) | 47 FR 36849; 08/24/1982.
Nanu | Gardenia mannii | Endangered | U.S.A. (HI) | 61 FR 53107; 10/10/1996.
No common name | Kadua degeneri | Endangered | U.S.A. (HI) | 56 FR 55785; 10/29/1991.
No common name | Kadua parvula | Endangered | U.S.A. (HI) | 56 FR 55785; 10/29/1991.
Hulumoa | Korthalsella degeneri | Endangered | U.S.A. (HI) | 77 FR 57745; 09/18/2012.
Kamakahala | Labordia cyrtandrae | Endangered | U.S.A. (HI) | 61 FR 53107; 10/10/1996.
Anaunau | Lepidium arbuscula | Endangered | U.S.A. (HI) | 61 FR 53107; 10/10/1996.
Large-flowered woolly meadowfoam | Limnanthes floccosa ssp. grandiflora | Endangered | U.S.A. (OR) | 67 FR 68004; 11/07/2002.
Nehe | Lipochaeta lobata ssp. leptophylla | Endangered | U.S.A. (HI) | 56 FR 55785; 10/29/1991.
No common name | Lobelia koolauensis | Endangered | U.S.A. (HI) | 61 FR 53107; 10/10/1996.
No common name | Lobelia monostachya | Endangered | U.S.A. (HI) | 61 FR 53107; 10/10/1996.
No common name | Lobelia oahuensis | Endangered | U.S.A. (HI) | 59 FR 14493; 03/28/1994.
Cook's lomatium | Lomatium cookii | Endangered | U.S.A. (OR) | 67 FR 68004; 11/07/2002.
Nehe | Melanthera tenuifolia | Endangered | U.S.A. (HI) | 56 FR 55785; 10/29/1991.
Alani | Melicope christophersenii | Endangered | U.S.A. (HI) | 77 FR 57745; 09/18/2012.
Alani | Melicope hiiakae | Endangered | U.S.A. (HI) | 77 FR 57745; 09/18/2012.
Alani | Melicope lydgatei | Endangered | U.S.A. (HI) | 59 FR 14493; 03/28/1994.
Alani | Melicope makahae | Endangered | U.S.A. (HI) | 77 FR 57745; 09/18/2012.
Alani | Melicope reflexa | Endangered | U.S.A. (HI) | 57 FR 46339; 10/08/1992.
Alani | Melicope saint-johnii | Endangered | U.S.A. (HI) | 61 FR 53107; 10/10/1996.
Kolea | Myrsine juddii | Endangered | U.S.A. (HI) | 61 FR 53107; 10/10/1996.
No common name | Neraudia angulata | Endangered | U.S.A. (HI) | 56 FR 55785; 10/29/1991.
No common name | Phyllostegia hirsuta | Endangered | U.S.A. (HI) | 61 FR 53107; 10/10/1996.
No common name | Phyllostegia kaalaensis | Endangered | U.S.A. (HI) | 61 FR 53107; 10/10/1996.
No common name | Phyllostegia mollis | Endangered | U.S.A. (HI) | 56 FR 55785; 10/29/1991.
No common name | Platydesma cornuta var. cornuta | Endangered | U.S.A. (HI) | 77 FR 57745; 09/18/2012.
No common name | Platydesma cornuta var. decurrens | Endangered | U.S.A. (HI) | 77 FR 57745; 09/18/2012.
Hala pepe | Pleomele forbesii | Endangered | U.S.A. (HI) | 77 FR 57745; 09/18/2012.
Ohe ohe | Polyscias gymnocarpa | Endangered | U.S.A. (HI) | 59 FR 14493; 03/28/1994.
No common name | Polyscias lydgatei | Endangered | U.S.A. (HI) | 77 FR 57745; 09/18/2012.
Loulu | Pritchardia kaalae | Endangered | U.S.A. (HI) | 61 FR 53107; 10/10/1996.
Kopiko | Psychotria hexandra ssp. oahuensis | Endangered | U.S.A. (HI) | 77 FR 57745; 09/18/2012.
Kaulu | Pteralyxia macrocarpa | Endangered | U.S.A. (HI) | 77 FR 57745; 09/18/2012.
No common name | Sanicula mariversa | Endangered | U.S.A. (HI) | 56 FR 55785; 10/29/1991.
Diamond Head schiedea | Schiedea adamantis | Endangered | U.S.A. (HI) | 56 FR 49643; 09/30/1991.
No common name | Schiedea kaalae | Endangered | U.S.A. (HI) | 56 FR 55785; 10/29/1991.
Maolioli | Schiedea kealiae | Endangered | U.S.A. (HI) | 61 FR 53107; 10/10/1996.
No common name | Schiedea obovata | Endangered | U.S.A. (HI) | 56 FR 55785; 10/29/1991.
No common name | Schiedea trinervis | Endangered | U.S.A. (HI) | 56 FR 55785; 10/29/1991.
No common name | Silene perlmanii | Endangered | U.S.A. (HI) | 56 FR 55785; 10/29/1991.
No common name | Stenogyne kanehoana | Endangered | U.S.A. (HI) | 57 FR 20595; 05/13/1992.
Malheur wire-lettuce | Stephanomeria malheurensis | Endangered | U.S.A. (OR) | 47 FR 50885; 11/10/1982.
No common name | Tetramolopium filiforme | Endangered | U.S.A. (HI) | 56 FR 55785; 10/29/1991.
No common name | Trematolobelia singularis | Endangered | U.S.A. (HI) | 61 FR 53107; 10/10/1996.
Opuhe | Urera kaalae | Endangered | U.S.A. (HI) | 56 FR 55785; 10/29/1991.
Pamakani | Viola chamissoniana ssp. chamissoniana | Endangered | U.S.A. (HI) | 56 FR 55785; 10/29/1991.
No common name | Viola oahuensis | Endangered | U.S.A. (HI) | 61 FR 53107; 10/10/1996.
Ae | Zanthoxylum oahuense | Endangered | U.S.A. (HI) | 77 FR 57745; 09/18/2012.

Request for New Information

To ensure that a 5-year review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

If you wish to provide information for any species listed above, please submit your comments and materials to the appropriate contact in the Pacific Islands Fish and Wildlife Office, Oregon Fish and Wildlife Office, or Washington Fish and Wildlife Office (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Completed and Active Reviews

A list of all completed and currently active 5-year reviews addressing species for which the Pacific Region of the Service has lead responsibility is available at http://www.fws.gov/pacific/ecoservices/endangered/recovery/5year.html.

Authority

This document is published under the authority of the Endangered Species Act of 1973, as amended (16 U.S.C. 1531 et seq.).

Dated: February 13, 2017.
Theresa E. Rabot,
Acting, Regional Director, Pacific Region, U.S. Fish and Wildlife Service.

[FR Doc. 2017-07940 Filed 4-19-17; 8:45 am]

BILLING CODE 4333-15-P